ENVIRONMENTAL PROTECTION AGENCY

[EPA-R09-OAR-2021-0135; FRL-8835-01-R9]

Adequacy Status of Motor Vehicle Emissions Budgets in Submitted 8-Hour Ozone Attainment Plan for San Diego; California

AGENCY: Environmental Protection Agency (EPA).

ACTION: Notice of adequacy.

SUMMARY: The Environmental Protection Agency (EPA or “Agency”) is notifying the public that the Agency has found motor vehicle emissions budgets (“budgets”) adequate in a California state implementation plan (SIP) submittal for San Diego County. Specifically, our finding relates to budgets in the area's “2020 Plan for Attaining the National Ambient Air Quality Standards for Ozone in San Diego County (October 2020)” (“2020 San Diego Ozone Plan” or “plan”). We find that these budgets are adequate for transportation conformity purposes for the 2008 and 2015 ozone national ambient air quality standards (NAAQS). Upon the effective date of this notice of adequacy, prior budgets for the 2008 ozone NAAQS previously found adequate by the EPA will no longer be applicable for transportation conformity purposes, and the San Diego Association of Governments (SANDAG) and the U.S. Department of Transportation must use these adequate budgets in future transportation conformity determinations.

DATES: This finding is effective October 19, 2021.

FOR FURTHER INFORMATION CONTACT: John Kelly, EPA, Region IX, Air Division AIR-2, 75 Hawthorne Street, San Francisco, CA 94105-3901; (415) 947-4151 or kelly.johnj@epa.gov.

SUPPLEMENTARY INFORMATION: Throughout this document, whenever “we,” “us,” or “our” is used, we mean the EPA.

Today's notice is simply an announcement of a finding that we have already made. The California Air Resources Board (CARB) submitted the plan to the EPA on January 12, 2021, as a revision to the California SIP. The plan contains budgets for both the 2008 and the 2015 ozone NAAQS. These budgets are used for the 2008 ozone NAAQS reasonable further progress (RFP) milestone years 2020 and 2023 and for the attainment year 2026. For the 2015 ozone NAAQS, these budgets are used for RFP milestone years 2023, 2026, and 2029, and for the attainment year 2032.

The EPA sent a letter to CARB dated September 21, 2021 stating that the motor vehicle emissions budgets in the submitted 2020 San Diego Ozone Plan are adequate for transportation conformity purposes.¹ The finding is available at the EPA's conformity website.² We announced availability of the plan and related budgets on the EPA's transportation conformity website on June 4, 2021, requesting comments by July 6, 2021. We received no comments in response to the adequacy review posting. The adequate budgets are provided in the following tables:

¹ See letter dated September 21, 2021 from Elizabeth J. Adams, Director, Air and Radiation Division, EPA Region IX, to Richard Corey, Executive Officer, CARB.

² https://www.epa.gov/state-and-local-transportation/state-implementation-plans-sip-submissions-epa-has-found-adequate-or.

San Diego County Motor Vehicle Emissions Budgets for 2008 Ozone NAAQS
Budget year | Volatile organic compounds (tons per average summer day) | Nitrogen oxides (tons per average summer day)
2020 | 16.3 | 28.1
2023 | 13.6 | 19.3
2026 | 12.1 | 17.3

San Diego County Motor Vehicle Emissions Budgets for 2015 Ozone NAAQS
Budget year | Volatile organic compounds (tons per average summer day) | Nitrogen oxides (tons per average summer day)
2023 | 13.6 | 19.3
2026 | 12.1 | 17.3
2029 | 11.0 | 15.9
2032 | 10.0 | 15.1

Transportation conformity is required by Clean Air Act section 176(c). The EPA's conformity rule requires that transportation plans, transportation improvement programs, and transportation projects conform to a state's air quality SIP and establishes the criteria and procedures for determining whether or not they conform. Conformity to a SIP means that transportation activities will not produce new air quality violations, worsen existing violations, or delay timely attainment of the NAAQS.

The criteria we use to determine whether a SIP's motor vehicle emissions budgets are adequate for conformity purposes are outlined in 40 CFR 93.118(e)(4), promulgated on August 15, 1997.³ We have further described our process for determining the adequacy of submitted SIP budgets in our final rule dated July 1, 2004, and we used the information in these resources in making our adequacy determination.⁴ Please note that an adequacy review is separate from the EPA's completeness review and should not be used to prejudge the EPA's ultimate action on the SIP submittal. Even if we find a budget adequate, the SIP submittal could later be disapproved.

³ See 62 FR 43780, 43781-43783 (August 15, 1997).

⁴ See 69 FR 40004, 40038-40047 (July 1, 2004).

Pursuant to 40 CFR 93.104(e), within two years of the effective date of this notice, SANDAG and the U.S. Department of Transportation will need to demonstrate conformity to the new budgets if the demonstration has not already been made.⁵ For demonstrating conformity to the budgets in this plan, the on-road motor vehicle emissions from implementation of the transportation plan or program should be projected consistently with the budgets in this plan, i.e., by taking the county's emissions results derived from CARB's EMFAC model (short for EMission FACtor) and then rounding the emissions up to the nearest tenth of a ton per day.

⁵ See 73 FR 4420 (January 24, 2008).

Authority: 42 U.S.C. 7401 et seq.

Dated: September 28, 2021.
Deborah Jordan,
Acting Regional Administrator, Region IX.

[FR Doc. 2021-21557 Filed 10-1-21; 8:45 am]

BILLING CODE 6560-50-P